DEPARTMENT OF STATE

22 CFR Part 41

[Public Notice 3568]

RIN 1400 AA-96

Bureau of Consular Affairs; Visas: Reissuance of O and P Nonimmigrant Visas

AGENCY: Bureau of Consular Affairs, Department of State.

ACTION: Final rule.

SUMMARY: This rule amends the Department's regulation which allows designated officers in the Directorate for Visa Services to reissue certain categories of nonimmigrant visas for aliens who are maintaining status and intend to depart the United States and reenter in that status after a temporary absence abroad. This regulation will add “O” and “P” visas to those categories that can be “revalidated” in the United States. The Department is also taking this opportunity to make an editorial amendment substituting “Deputy Assistant Secretary for Visa Services” for “Director of the Visa Office.” Some years ago, as part of an internal administrative reorganization, the title “Director of the Visa Office” was replaced by the title “Deputy Assistant Secretary for Visa Services.” The powers, duties and responsibilities of the position have not changed; only the title. There is, thus, no substantive significance to this substitution.

DATES: This rule takes effect on February 28, 2001.

FOR FURTHER INFORMATION CONTACT: H. Edward Odom, Chief, Legislation and Regulations Division, Visa Services, Department of State, Washington, DC 20520-0106, (202) 663-1204.

SUPPLEMENTARY INFORMATION:

What Is the Authority for Reissuing Visas?

The Department of State regulation at 22 CFR 41.111(b) authorizes the Director of the Visa Office and such officers of the Department of State as he or she may designate for such purpose to reissue nonimmigrant visas for aliens in certain nonimmigrant visa classifications who meet the requirements set forth in that section. The purpose of this authority, in part, is to provide a service to the international business community.

Why Is the Regulation Being Amended?

Section 207(a)(3) of the Immigration Act of 1990, (Pub. L, 191-649) amended INA 101(a)(15) by adding two new classes of nonimmigrant temporary workers, “O”, aliens of extraordinary ability in the sciences, arts, education, business and athletics, and “P”, internationally recognized athletes, and certain artists and entertainers. Since that time, the Department has been reissuing “O” and “P” visas. This rule codifies this long-established practice that complements our existing authority.

Final Rule

How Is the Department Amending Its Regulation?

The Department is amending 22 CFR 41.111(b) by adding the “O” and “P” visas to those categories of visas that the Department currently reissues.

Administrative Procedure Act

The Department's implementation of this regulation as a final rule is based upon the “good cause” exceptions found at 5 U.S.C. 553(b)(B) and (d)(3). Since the Department is providing an administrative service by reissuing visas in the United States for the benefit of aliens who are currently maintaining status in a nonimmigrant category who wish to travel temporarily abroad by reissuing visas in the United States, the Department believes that solicitation of public comments would serve no purpose.

Regulatory Flexibility Act

The Department of State, in accordance with the Regulatory Flexibility Act (5 U.S.C. 605(b)), has reviewed this regulation and, by approving it, certifies that this rule will not have a significant economic impact on a substantial number of small entities.

Unfunded Mandates Reform Act of 1995

This rule will not result in the expenditure by state, local and tribal governments, in the aggregate, or by the private sector, of $100 million or more in any year and it will not significantly or uniquely affect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an annual effect on the economy of $100 million or more; a major increase in costs or prices; or significant adverse effects on competition, employment, investment, productivity, innovation, or on the ability of United States-based companies to compete with foreign-based companies in domestic and export markets.

Executive Order 12866

The Department of State does not consider this rule, to be a “significant regulatory action” under Executive Order 12866, section 3(f), Regulatory Planning and Review, and the Office of Management and Budget has waived its review process under section 6(a)(3)(A).

Executive Order 13132

This regulation will not have substantial direct effects on the states, on the relationship between the national government and the states, or on the distribution of power and responsibilities among the various levels of government. Therefore, in accordance with section 6 of Executive Order 13132, it is determined that this rule does not have sufficient federalism implications to warrant the preparation of a federalism summary impact statement.

Paperwork Reduction Act

This rule does not impose any new reporting or record-keeping requirements. The information collection requirement (Form OF-156) contained by reference in this rule was previously approved for use by the Office of Management and Budget (OMB) under the Paperwork Reduction Act.

List of Subjects in 22 CFR Part 41

Aliens, Nonimmigrants, Passports and visas.

Accordingly, the Department amends 22 CFR part 41 as follows:

PART 41—[AMENDED]

1. The authority citation for Part 41 is revised to read as follows:

Authority: 8 U.S.C. 1104; 22 U.S.C. 2651a.

2. Revise § 41.111(b) introductory text and (b)(2) to read as follows:

§ 41.111 Authority to issue visa.

(b) Issuance in the United States in certain cases. The Deputy Assistant Secretary for Visa Services and such officers of the Department as the former may designate are authorized, in their discretion, to issue nonimmigrant visas, including diplomatic visas, to:

* * * * *

(2) Other qualified aliens who:

(i) Are currently maintaining status in the E, H, I, L, O, or P nonimmigrant category;

(ii) Intend to reenter the United States in that status after a temporary absence abroad; and

(iii) Who also present evidence that:

(A) They were previously issued visas at a consular office abroad and admitted to the United States in the status which they are currently maintaining; and

(B) Their period of authorized admission in that status has not expired.

Dated: January 21, 2001.
Mary A. Ryan,
Assistant Secretary for Consular Affairs, Department of State.

[FR Doc. 01-4769 Filed 2-27-01; 8:45 am]

BILLING CODE 4710-06-U